ENVIRONMENTAL PROTECTION AGENCY

[FRL- 9522-5]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1895.07; Microbial Rules (Renewal); 40 CFR part 141; and 40 CFR part 142; was approved on 08/06/2012; OMB Number 2040-0205; expires on 08/31/2015; Approved with change.

EPA ICR Number 2192.05; Unregulated Contaminant Monitoring in Public Water Systems (Final Rule); 40 CFR 141.35 and 141.40; was approved on 08/06/2012; OMB Number 2040-0270; expires on 08/31/2015; Approved with change.

EPA ICR Number 1560.10; National Water Quality Inventory Reports (Renewal); 40 CFR 130.6-130.10 and 130.15; was approved on 08/10/2012; OMB Number 2040-0071; expires on 08/31/2015; Approved without change.

EPA ICR Number 2445.02; NSPS for Nitric Acid Plants for which Construction, Reconstruction, or Modification Commenced after October 14, 2011; 40 CFR part 60 subpart Ga; was approved on 08/14/2012; OMB Number 2060-0674; expires on 08/31/2015; Approved without change.

EPA ICR Number 1446.10; PCBs: Consolidated Reporting and Recordkeeping Requirements (renewal); 40 CFR part 761; was approved on 08/14/2012; OMB Number 2070-0112; expires on 08/31/2015; Approved without change.

John Moses,
Director, Collections Strategies Division.

[FR Doc. 2012-22397 Filed 9-11-12; 8:45 am]

BILLING CODE 6560-50-P